DEPARTMENT OF HEALTH AND HUMAN SERVICES

Agency for Healthcare Research and Quality

Meeting of the Citizens' Health Care Working Group

AGENCY: Agency for Healthcare Research and Quality (AHRQ), HHS)

ACTION: Notice of public meeting

SUMMARY: In accordance with section 10(a) of the Federal Advisory Committee Act, this notice announces a meeting and hearing of the Citizens' Health Care Working Group mandated by section 1014 of the Medicare Modernization Act.

DATES: The meeting will be held on Tuesday, June 7, 2005 from 1 p.m. to 5 p.m. The hearing will be held Wednesday, June 8, 2005 from 8 a.m. to 12 noon.

ADDRESSES: The meeting and hearing will both be held at the Jackson Medical Mall, 350 West Woodrow Wilson Drive, Jackson, Mississippi 39213. The meeting and hearing are open to the public.

FOR FURTHER INFORMATION CONTACT: Caroline Taplin, Citizens' Health Care Working Group, at (301) 443-1514 or ctaplin@ahrq.gov. If sign language interpretation or other reasonable accommodation for a disability is needed, please contact Mr. Donald L. Inniss, Director, Office of Equal Employment Opportunity Program, Program Support Center, on (301) 443-1144.

The agenda and roster is available on the Citizens' Group Web site. http://www.citizenshealth.ahrq.gov. When a transcription of the Group's June 7 and 8 meeting and hearing are completed, they are available on the Web site.

SUPPLEMENTARY INFORMATION: Section 1014 of Pub. L. 108-173, (known as the Medicare Modernization Act) directs the Secretary of the Department of Health and Human Services (DHHS), acting through the Agency for Healthcare Research and Quality, to establish a Citizens' Health Care Working Group (Citizen Group). This statutory provision, codified in 42 U.S.C. 299 n., directs the Working Group to: (1) Identify options for changing our health care system so that every American has the ability to obtain quality, affordable health care coverage; (2) provide for a nationwide public debate about improving the health care system; and (3) submit their recommendations to the President and the Congress.

The Citizens' Health Care Working Group is composed of 15 members: The Secretary of DHHS is designated as a member by the statute and the Comptroller General of the U.S. Government Accountability Office (GAO) is directed to appoint the remaining 14 members. The Comptroller General announced the 14 appointments on February 28, 2005. A list of the Working group members is available on the GAO Web site (http://www.gao.gov).

Agenda

The meeting on June 7 will be devoted to ongoing Working Group business. The hearing on the morning of June 8 will be devoted to three broad topics: Access; the reality of being uninsured; and State, local, and private initiatives.

The business meeting on June 7 will address topics such as: Discussions of future additional hearings, the required Report to the American People, and continuing discussion regarding approaches for conducting the community meetings required by the statute.

Submission of Written Information

Individuals or organizations wishing to provide written information for consideration by the Citizen Group should submit information electronically to citizenshealth@ahrq.hhs.gov. Targeted but separate submissions that address the following topics are encouraged: (1) The above-listed issues that will be addressed at the June meeting; (2) the issues that the statute requires the Report to the American People to address which can be found at the Citizen Group Web site; and (3) examples of innovative public or private sector initiatives to address the issues that the statute requires the hearings or Report to address. If an individual or organization wishes to address more than one of these topics, separate submissions are requested. Because all electronic submissions will be posted on the Working Group Web site, separate submissions will facilitate review of ideas submitted on each topic by the Working Group and the public.

Dated: May 24, 2005
Carolyn M. Clancy,
Director.

[FR Doc. 05-10651 Filed 5-24-05; 1:13 pm]

BILLING CODE 4160-90-M